DEPARTMENT OF HEALTH AND HUMAN SERVICES

Centers for Disease Control and Prevention

[30Day-25-0457]

Agency Forms Undergoing Paperwork Reduction Act Review

In accordance with the Paperwork Reduction Act of 1995, the Centers for Disease Control and Prevention (CDC) has submitted the information collection request titled “Aggregate Reports for Tuberculosis Program Evaluation” to the Office of Management and Budget (OMB) for review and approval. The CDC previously published a “Proposed Data Collection Submitted for Public Comment and Recommendations” notice on June 16, 2025, to obtain comments from the public and affected agencies. We received no public comments. This notice serves to allow an additional 30 days for public and affected agency comments.

The CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Aggregate Reports for Tuberculosis Program Evaluation (OMB Control No. 0920-0457 Exp. 1/31/2026)—Extension—National Center for HIV, Viral Hepatitis, STD, and Tuberculosis Prevention (NCHHSTP), Centers for Disease Control and Prevention (CDC).

Background and Brief Description

The CDC requests an Extension of the Aggregate Reports for Tuberculosis Program Evaluation project, currently approved under OMB No. 0920-0457, for a period of three years. Extension of this information will not require changes in the scope of the project. There are no revisions to the report forms, data definitions, or reporting instructions.

To ensure the elimination of tuberculosis in the United States, the CDC monitors indicators for key program activities, such as finding tuberculosis infections in recent contacts of cases and in other persons likely to be infected and providing therapy for latent tuberculosis infection. In 2000, the CDC implemented two program evaluation reports for annual submission: “Aggregate Report of Follow-up and Treatment for Contacts of Tuberculosis Cases” and “Aggregate Report of Targeted Testing and Treatment for Latent Tuberculosis Infection.” The respondents for these reports are the 66 state and local tuberculosis control programs receiving federal cooperative agreement funding through the CDC Division of Tuberculosis Elimination (DTBE). These reports emphasize treatment outcomes, high-priority target populations vulnerable to tuberculosis, and electronic report entry and submission to CDC through the National Tuberculosis Indicators Project (NTIP), a secure web-based system for program evaluation data. No other federal agency collects this type of national tuberculosis data, and the aggregate report of follow-up and treatment for contacts of tuberculosis cases, and aggregate report of targeted testing and treatment for latent tuberculosis infection are the only data sources about latent tuberculosis infection for monitoring national progress toward tuberculosis elimination with these activities. The CDC provides ongoing assistance in the preparation and utilization of these reports at the local and state levels of public health jurisdiction. The CDC also provides respondents with technical support for the NTIP software.

CDC requests OMB approval for an estimated 264 annual burden hours. There is no cost to respondents to participate other than their time.

Estimated Annualized Burden Hours
Type of respondent | Form name | Number of respondents | Number of responses per respondent | Average burden per response (hours)
Data clerks and Program Managers (electronic) | Follow-up and Treatment of Contacts to Tuberculosis Cases Form | 66 | 1 | 2
Data clerks and Program Managers (electronic) | Targeted Testing and Treatment for Latent Tuberculosis Infection | 66 | 1 | 2

Jeffrey M. Zirger,
Lead, Information Collection Review Office, Office of Public Health Ethics and Regulations, Office of Science, Centers for Disease Control and Prevention.

[FR Doc. 2025-17780 Filed 9-12-25; 8:45 am]

BILLING CODE 4163-18-P